DEPARTMENT OF LABOR

Employment and Training Administration

Workforce Innovation and Opportunity Act; Native American Employment and Training Council

AGENCY: Employment and Training Administration, Department of Labor.

ACTION: Notice of meeting.

SUMMARY: Pursuant to the Federal Advisory Committee Act (FACA), as amended, and the Workforce Innovation and Opportunity Act (WIOA), notice is hereby given of the next meeting of the Native American Employment and Training Council (Council), as constituted under WIOA.

DATES: The meeting will begin at 9:00 a.m., (Pacific Daylight Time) on Sunday, October 30, 2022, and continue until 4:30 p.m. The meeting will reconvene at 9:00 a.m., on Monday, October 31, 2022, and adjourn at 4:30 p.m. The period from 3:00 p.m., to 4:00 p.m., on October 31, 2022, is reserved for participation and comment by members of the public.

ADDRESSES: The meeting will be held in person at the Citizen Hotel, 926 J Street, Sacramento, California, 95814. The meeting will also be accessible virtually on the Zoom.gov platform. To join the meeting use the following:

https://www.zoomgov.com/j/1612156612

Meeting ID: 161 215 6612

SUPPLEMENTARY INFORMATION: Council members and members of the public are encouraged to log on to Zoom.gov early to allow for connection issues and troubleshooting.

Members of the public not present may submit a written statement by Tuesday, October 25, 2022, to be included in the record of the meeting. Statements are to be submitted to Athena R. Brown, Designated Federal Officer (DFO), and U.S. Department of Labor at brown.athena@dol.gov. Persons who need special accommodations should contact Suzie Casal at (202) 309-8589 or casal.suzie@dol.gov, at least two business days before the meeting. The formal agenda will focus on the following topics: (1) NAETC issues/discussion, (2) Introduction to National Congress of American Indians Training and Key Priorities, (3) NAETC Two-Year Strategic Plan Update; (4) 477 Update from Federal Partners Meeting; (5) Upcoming Regional/National TAT conferences; (6) DINAP Report Out and Updates; and (7) public comment.

FOR FURTHER INFORMATION CONTACT: Athena R. Brown, DFO, Division of Indian and Native American Programs, Employment and Training Administration, U.S. Department of Labor, Room C-4311, 200 Constitution Avenue NW, Washington, DC, 20210. Telephone number (202) 693-3737 (VOICE) (this is not a toll-free number).

Brent Parton,
Acting Assistant Secretary for Employment and Training, Labor.

[FR Doc. 2022-22402 Filed 10-13-22; 8:45 am]

BILLING CODE 4510-FR-P